NUCLEAR REGULATORY COMMISSION

Draft Criteria for Determining Feasibility of Manual Actions To Achieve Post-Fire Safe Shutdown

AGENCY: Nuclear Regulatory Commission.

ACTION: Extension of opportunity for public comment.

SUMMARY: The U.S. Nuclear Regulatory Commission (NRC) is considering a revision to the fire protection regulations in 10 CFR Part 50, Appendix R, Paragraph III.G.2 to allow the use of manual actions by nuclear power plant operators to achieve hot shutdown conditions in the event of fires in certain areas provided the actions are evaluated against specific criteria and determined to be acceptable. For complying with the requirements of Appendix R, Paragraph III.G.2, licensees who rely on operator manual actions which have not been reviewed and approved by the NRC are generally considered to be in non-compliance. However, the NRC believes that manual actions relied upon by licensees are safe and effective if they meet appropriate acceptance criteria. Accordingly, until the fire protection regulations are revised, the NRC is planning to issue an interim enforcement policy to exercise enforcement discretion for non-compliant licensees if their manual actions meet the NRC's interim acceptance criteria. The NRC is seeking public comments on the adequacy and clarity of draft interim acceptance criteria. On November 26, 2003 (68 FR 66501), the NRC published its draft interim acceptance criteria in the Federal Register. The 30 day comment period established for these criteria was to have expired on December 26, 2003. In letters dated November 26 and December 2, 2003, the Nuclear Information and Resource Service and the Union of Concerned Scientists requested a 30 day extension to the comment period. The letters noted that the comment period included two major holidays and stated that the additional time was needed to research the issues and provide meaningful comments. Similar requests were made by many other members of the public. In view of the importance of meaningful stakeholder input on these criteria, the NRC has decided to extend the comment period by 30 days.

DATES: The comment period has been extended and now expires on January 26, 2004.

ADDRESSES: Submit written comments to the Chief, Rules and Directives Branch, Division of Administrative Services, Office of Administration, U.S. Nuclear Regulatory Commission, Mail Stop T6-D59, Washington, DC 20555-0001. Comments may be submitted by e-mail to nrcrep@nrc.gov. Comments may be delivered to the NRC's headquarters at Two White Flint North, 11545 Rockville Pike, Rockville, Maryland 20852.

FOR FURTHER INFORMATION CONTACT: Richard Dudley, Office of Nuclear Reactor Regulation, Washington, DC 20555-0001, telephone (301) 415-1116, e-mail rfd@nrc.gov or Ray Gallucci, telephone (301) 415-1255, e-mail rhg@nrc.gov.

Dated at Rockville, Maryland, this 9th day of December, 2003.
For the Nuclear Regulatory Commission.
Catherine Haney,
Program Director, Policy and Rulemaking Program, Division of Regulatory Improvement Programs, Office of Nuclear Reactor Regulation.

[FR Doc. 03-30859 Filed 12-12-03; 8:45 am]

BILLING CODE 7590-01-P